DEPARTMENT OF AGRICULTURE

Forest Service

Giant Sequoia National Monument Scientific Advisory Board; Meeting

AGENCY: Forest Service, USDA.

ACTION: Notice of meeting.

SUMMARY: The Giant Sequoia National Monument Scientific Advisory Board (Scientific Advisory Board) will meet at the Visalia Convention Center in Visalia, California, January 10 and 11, 2002. The purpose of the meeting is to hear comments from the public and consider alternatives to the Proposed Action as presented by the Planning Team.

DATES: The meeting will be held Thursday and Friday, January 10 and 11, from 8 a.m. to 5 p.m.

ADDRESSES: The meeting will be held at the Visalia Convention Center, 303 E. Acequia Avenue, Visalia, California, in room San Joaquin D.

FOR FURTHER INFORMATION CONTACT: To receive further information, contact Arthur L. Garrfrey, 559-784-1500.

SUPPLEMENTARY INFORMATION: The meeting is open to the public. If you are planning to attend, please contact Arthur L. Gaffrey to ensure adequate seating. Guidelines for the public participation portion of the Scientific Advisory Board's meeting are as follows: The public will be allowed to address the Scientific Advisory Board during the first 30 minutes of the meeting on January 10; when registering, participants must provide 9 written copies of their presentation, one copy for each member of the Board and one copy to be included in the meeting minutes; oral presentations may be no more than 5 minutes in length, depending on the number of people wishing to address the Scientific Advisory Board; priority for presentations will be given to persons who did not make a presentation at a previous meeting; and all presentations must be related to the science surrounding the development of the Management Plan for the Giant Sequoia National Monument. Some members of the Scientific Advisory Board may participate in the meeting via telephone. In that event, arrangements will be made to enable the public to listen to all the members participating in the meeting.

Written comments for the Scientific Advisory Board may be submitted to Forest Supervisor Arthur L. Gaffrey, Sequoia National Forest, 900 West Grand Avenue, Porterville, California 93257.

A final agenda can be obtained by contacting Arthur L. Gaffrey or by visiting the Giant Sequoia National Monument web site at www.r5.fs.fed.us/giant_sequoia

Dated: December 11, 2001.
Arthur L. Gaffrey,
Forest Supervisor, Sequoia National Forest.

[FR Doc. 01-30966 Filed 12-14-01; 8:45 am]

BILLING CODE 3410-11-M